NATIONAL SCIENCE FOUNDATION

Advisory Committee for Mathematical and Physical Sciences; Notice of Meeting

In accordance with Federal Advisory Committee Act (Pub. L. 92-463, as amended), the National Science Foundation announces the following meeting:

Name: Advisory Committee for Mathematical and Physical Sciences (#66).

Date and Time: April 3, 2014: 10:00 a.m. to 5:00 p.m.; April 4, 2014: 8:30 a.m. to 4:30 p.m.

Place: National Science Foundation, 4201 Wilson Boulevard, Suite 1235, Arlington, Virginia 22230.

To help facilitate your entry into the building, contact Caleb Autrey (cautrey@nsf.gov). Your request should be received on or prior to March 28, 2014.

Virtual attendance will be supported. For detailed instructions, visit the meeting Web site at http://www.nsf.gov/events/event_summ.jsp?cntn_id=130168&org=MPS.

Type of Meeting: Open.

Contact Person: Dr. Kelsey Cook, Staff Associate, National Science Foundation, 4201 Wilson Boulevard, Suite 1005, Arlington, Virginia 22230, 703-292-7490 and Caleb Autrey, National Science Foundation, 4201 Wilson Boulevard, Suite 1005, Arlington, Virginia 22230, 703-292-5137.

Minutes: Meeting minutes and other information may be obtained from the Staff Associate at the above address or the MPSAC Web site at http://www.nsf.gov/mps/advisory.jsp.

Purpose of Meeting: To study data, programs, policies, and other information pertinent to the National Science Foundation and to provide advice and recommendations concerning research in mathematical and physical sciences.

Agenda

April 3

Joint session with the Advisory Committee on Cyberinfrastructure

State of the Directorate for Mathematical and Physical Sciences: Challenges and Opportunities

Report from the StatsNSF Subcommittee

Report from the Food Security Subcommittee

Merit Review—Part I: Issues

April 4

Report from the Optics and Photonics Subcommittee

Session with the Office of the Director

Report from the Materials Instrumentation Subcommittee

Merit Review Part II: Ideas

Briefing from the Committee on Equal Opportunity in Science and Engineering

Briefing from the International Coordinating Committee (International Framework & AC-ISE)

Briefing from the NSF Public Access Working Group

Briefing on the NSF Strategic Plan

New Challenges/Subcommittees

Dated: February 28, 2014.
Suzanne Plimpton,
Acting Committee Management Officer.

[FR Doc. 2014-04836 Filed 3-4-14; 8:45 am]

BILLING CODE P